OFFICE OF PERSONNEL MANAGEMENT

Submission for Review: 3206-0230, Life Insurance Election, Standard Form (SF) 2817

AGENCY: Office of Personnel Management.

ACTION: 60-Day notice and request for comments.

SUMMARY: Federal Employee Insurance Operations (FEIO), Healthcare & Insurance (HI), Office of Personnel Management (OPM) offers the general public and other Federal agencies the opportunity to comment on the reinstatement of an expired information collection SF 2817—Life Insurance Election.

DATES: Comments are encouraged and will be accepted until October 27, 2025.

ADDRESSES: You may submit comments using the Federal Rulemaking Portal: http://www.regulations.gov. Follow the instructions for submitting comments.

All submissions received must include the OMB Control Number or title for this document. The general policy for comments and other submissions from members of the public is to make these submissions available for public viewing at http://www.regulations.gov as they are received without change, including any personal identifiers or contact information.

FOR FURTHER INFORMATION CONTACT: A copy of this information collection request with applicable supporting documentation may be obtained by contacting the Retirement Services Publications Team, Office of Personnel Management, 1900 E Street NW, Room 3316-BD, Washington, DC 20415, Attention: Cyrus S. Benson, or via electronic mail to RSPublicationsTeam@opm.gov, by fax at (202) 606-1995, or telephone at (202) 936-0401.

SUPPLEMENTARY INFORMATION: As required by the Paperwork Reduction Act of 1995 (44 U.S.C. chapter 35), OPM is soliciting comments for this collection (OMB No. 3206-0230). OPM is particularly interested in comments that:

1. Evaluate whether the proposed collection of information is necessary for the proper performance of functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

Standard Form 2817 is used by employees and federal assignees (those who have acquired control of an employee/annuitant's coverage through an assignment or “transfer” of the ownership of the life insurance) to elect or make changes to a life insurance election under the Federal Employees' Group Life Insurance (FEGLI) Program. Clearance of this form as used by active employees is not required according to the Paperwork Reduction Act. Therefore, only the use of this form by assignees, i.e. members of the public, is subject to the Paperwork Reduction Act.

Analysis

Agency: Federal Employee Insurance Operations, Healthcare & Insurance, Office of Personnel Management.

Title: Life Insurance Election.

OMB Number: 3206-0230.

Frequency: On occasion.

Affected Public: Individuals or Households.

Number of Respondents: 150.

Estimated Time per Respondent: 15 minutes.

Total Burden Hours: 38 hours.

Office of Personnel Management.
Alexys Stanley,
Federal Register Liaison.

[FR Doc. 2025-16457 Filed 8-27-25; 8:45 am]

BILLING CODE 6325-38-P